DEPARTMENT OF TRANSPORTATION

Surface Transportation Board

[STB Ex Parte No. 558 (Sub-No. 11)]

Railroad Cost of Capital—2007

AGENCY: Surface Transportation Board.

ACTION: Notice of decision.

SUMMARY: The Board is instituting a proceeding to determine the railroad industry's cost of capital for 2007. The decision solicits comments on: (1) The railroads' 2007 current cost of debt capital; (2) the railroads' 2007 current cost of preferred stock equity capital (if any); (3) the railroads' 2007 cost of common stock equity capital; and (4) the 2007 capital structure mix of the railroad industry on a market value basis.

DATES: Notices of intent to participate are due no later than May 6, 2008. Statements of the railroads are due by May 22, 2008. Statements of other interested persons are due by June 23, 2008. Rebuttal statements by the railroads are due by July 23, 2008.

ADDRESSES: Comments may be submitted either via the Board's e-filing format or in the traditional paper format. Any person using e-filing should submit a document and otherwise comply with the instructions at the E-FILING link on the Board's Web site, at http://www.stb.dot.gov. Any person submitting a filing in the traditional paper format should send an original and 10 copies to: Surface Transportation Board, Attn: STB Ex Parte No. 558 (Sub-No. 11), 395 E Street, SW., Washington, DC 20423-0001.

FOR FURTHER INFORMATION CONTACT: Pedro Ramirez, 202-245-0333. [Assistance for the hearing impaired is available through the Federal Information Relay Service (FIRS) at 1-800-877-8339.]

SUPPLEMENTARY INFORMATION: Additional information is contained in the Board's decision, which is available on our Web site http://www.stb.dot.gov.

Environmental and Energy Considerations

We preliminarily conclude that the proposed action will not significantly affect either the quality of the human environment or the conservation of energy resources.

Authority: 49 U.S.C. 10704(a).

Decided: April 22, 2008.
By the Board, Chairman Nottingham, Vice Chairman Mulvey, and Commissioner Buttrey.
Anne K. Quinlan,
Acting Secretary.

[FR Doc. E8-9352 Filed 4-28-08; 8:45 am]

BILLING CODE 4915-01-P